DEPARTMENT OF ENERGY

Federal Energy Regulatory Commission

[Docket Nos. CP04-36-000 and CP04-41-000]

Weaver's Cove Energy L.L.C. and Mill River Pipeline L.L.C.; Notice of Meeting

January 14, 2005.

At the request of Mayor Edward Lambert, Jr., of Fall River, Massachusetts, Chairman Pat Wood will meet with the Mayor to receive comments on the Weaver's Cove Energy, L.L.C.'s proposed liquefied natural gas (LNG) import terminal and storage facility in Fall River, Massachusetts. The meeting will be held at the FERC headquarters at 888 First Street, NE., Washington, DC, in Hearing Room 2 from 9:30 to 10:30 a.m. (e.s.t.), Monday, January 24, 2005.

FERC conferences are accessible under section 508 of the Rehabilitation Act of 1973. For accessibility accommodations please send an e-mail to accessibility@ferc.gov or call toll free (866) 208-3372 (voice) or (202) 208-1659 (TTY), or send a FAX to (202) 208-2106 with the required accommodations.

Magalie R. Salas,
Secretary.

[FR Doc. E5-295 Filed 1-25-05; 8:45 am]

BILLING CODE 6717-01-P